DEPARTMENT OF ENERGY

Federal Energy Regulatory Commission

Combined Notice of Filings #2

Take notice that the Commission received the following electric rate filings:

Docket Numbers: ER10-2984-006.

Applicants: Merrill Lynch Commodities, Inc.

Description: Notice of Non-Material Change in Status of Merrill Lynch Commodities, Inc.

Filed Date: 6/13/12.

Accession Number: 20120613-5053.

Comments Due: 5 p.m. ET 7/5/12.

Docket Numbers: ER12-1270-001.

Applicants: Midwest Independent Transmission System Operator, Inc.

Description: 6-13-12 Schedule 20 Compliance to be effective 5/15/2012.

Filed Date: 6/13/12.

Accession Number: 20120613-5028.

Comments Due: 5 p.m. ET 7/5/12.

Docket Numbers: ER12-2012-000.

Applicants: Casselman Windpower LLC.

Description: Tariff Revisions to be effective 6/14/2012.

Filed Date: 6/13/12.

Accession Number: 20120613-5051.

Comments Due: 5 p.m. ET 7/5/12.

Docket Numbers: ER12-2013-000.

Applicants: Colorado Green Holdings LLC.

Description: Tariff Revisions to be effective 6/14/2012.

Filed Date: 6/13/12.

Accession Number: 20120613-5052.

Comments Due: 5 p.m. ET 7/5/12.

Docket Numbers: ER12-2014-000.

Applicants: Dillon Wind LLC.

Description: Tariff Revisions to be effective 6/14/2012.

Filed Date: 6/13/12.

Accession Number: 20120613-5054.

Comments Due: 5 p.m. ET 7/5/12.

Docket Numbers: ER12-2015-000.

Applicants: Hardscrabble Wind Power LLC.

Description: Tariff Revisions to be effective 6/14/2012.

Filed Date: 6/13/12.

Accession Number: 20120613-5055.

Comments Due: 5 p.m. ET 7/5/12.

Docket Numbers: ER12-2016-000.

Applicants: Hay Canyon Wind LLC.

Description: Tariff Revisions to be effective 6/14/2012.

Filed Date: 6/13/12.

Accession Number: 20120613-5058.

Comments Due: 5 p.m. ET 7/5/12.

Docket Numbers: ER12-2017-000.

Applicants: Juniper Canyon Wind Power LLC.

Description: Tariff Revisions to be effective 6/14/2012.

Filed Date: 6/13/12.

Accession Number: 20120613-5068.

Comments Due: 5 p.m. ET 7/5/12.

Docket Numbers: ER12-2018-000.

Applicants: Klamath Energy LLC.

Description: Tariff Revisions to be effective 6/14/2012.

Filed Date: 6/13/12.

Accession Number: 20120613-5073.

Comments Due: 5 p.m. ET 7/5/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 13, 2012.
Nathaniel J. Davis, Sr.,
Deputy Secretary.

[FR Doc. 2012-15136 Filed 6-20-12; 8:45 am]

BILLING CODE 6717-01-P